DEPARTMENT OF TRANSPORTATION

Office of the Secretary

Aviation Proceedings, Agreements Filed the Week Ending March 7, 2003

The following Agreements were filed with the Department of Transportation under the provisions of 49 U.S.C. sections 412 and 414. Answers may be filed within 21 days after the filing of the application.

Docket Number: OST-2003-14661.

Date Filed: March 6, 2003.

Parties: Members of the International Air Transport Association.

Subject:

PTC2 EUR-ME 0155 dated 6 March 2003

Mail Vote 270—TC2 Europe-Israel

Resolution 070iy Excursion Fares and Resolution 074ey

Pex Fares from Israel to Europe

Intended effective date: 1 April 2003

Docket Number: OST-2003-14669.

Date Filed: March 7, 2003.

Parties: Members of the International Air Transport Association.

Subject:

PTC2 EUR 0496 dated 11 March 2003

Mail Vote 271—TC2 Europe

Resolution 010r—TC2 Within Europe Special Passenger

Amending Resolution

Intended effective date: 20 March 2003

Dorothy Y. Beard,
Chief, Docket Operations & Media Management, Federal Register Liaison.

[FR Doc. 03-6184 Filed 3-13-03; 8:45 am]

BILLING CODE 4910-62-P